DEPARTMENT OF AGRICULTURE

Forest Service

Information Collection; Contract Operations and Administration

AGENCY: Forest Service, USDA.

ACTION: Notice; request for comment.

SUMMARY: In accordance with the Paperwork Reduction Act of 1995, the Forest Service is seeking comments from all interested individuals and organizations on a new information collection, Contract Operations and Administration.

DATES: Comments must be received in writing on or before August 3, 2010 to be assured of consideration. Comments received after that date will be considered to the extent practicable.

ADDRESSES: Comments concerning this notice should be addressed to Lathrop Smith, Natural Resources Research Center, 2150 Centre Avenue, Building A, Suite 341, Fort Collins, CO 80526-8121. Comments also may be submitted via e-mail to: contractplans@fs.fed.us.

The public may inspect comments received at the Office of the Director, Forest Management Staff, Forest Service, USDA, Room 3 NW., Yates Building, 1400 Independence Ave., SW., Washington, DC, during normal business hours. Visitors are encouraged to call ahead to 202-205-1496 to facilitate entry to the building.

FOR FURTHER INFORMATION CONTACT: Lathrop Smith, Forest Management, 970-295-5961. Individuals who use telecommunication devices for the deaf (TDD) may call the Federal Relay Service (FRS) at 1-800-877-8339, between 8 a.m. and 8 p.m., Eastern Standard time, Monday through Friday.

SUPPLEMENTARY INFORMATION: Title: Contract Operations and Administration.

OMB Number: 0596-NEW.

Expiration Date of Approval: 3 years from OMB approval date.

Type of Request: New.

Abstract: Forest Service contracts for the sale of timber and other forest products are bilateral contracts in which both contracting parties are bound to fulfill obligations reciprocally. By their nature bilateral contracts require both parties to routinely share information and enter into agreements pertaining to operations and performance. Some information collected under Forest Service contracts is required by laws, regulations, and/or timber sale policies. Each contract specifies the information the contractor will be required to provide, including the timing and frequency of the information collection. The inability to collect information required under the terms of a contract could result in delays, disputes, claims, litigation, and/or defaults.

The type and amount of information collected varies depending on the size, complexity, and length of each contract, and external factors such as weather and market conditions. The information collected includes plans, requests, agreements and notices necessary for operations under the terms of the contracts. Forest Service officers collect the information from contractors who may be individuals, private sector businesses, or other government entities. The information is submitted in a variety of formats including Forest Service forms; Government Standard Forms; forms developed by individual contractors, charts, maps, e-mail messages; and letters. Also, to assist small contractors and lessen their burden, individual contracting officers may provide optional forms for some of the information collected. Depending on the purpose of the specific information collection, the information may be submitted by electronic mail, facsimile, conventional mail, or hand delivery.

The information is needed by the Agency for a variety of uses associated with operations and administration of contracts for the sale of timber and other forest products including: (1) Planning and scheduling contract administration workloads, (2) planning and scheduling the delivery of government furnished materials needed by contractors, (3) assuring safety of public in vicinity of contract work, (4) identifying contractor resources that may be used in emergency fire fighting situations, (5) determining contractor eligibility for additional contract time, (6) determining contractor eligibility for redetermining contract rates, (7) monitoring compliance with domestic processing requirements, (8) monitoring compliance with Small Business Administration requirements, (9) processing agreements and modifications, and (10) inspecting and accepting work.

Without accurate information showing when and how a contractor intends to operate, the Forest Service would be hindered in fulfilling its contractual obligations to cooperate with and not hinder performance of the contractors. The inability to obtain accurate and timely information from contractors could lead to serious problems including disruption of operations, disputes, claims, and possible default. In some cases, the Forest Service may be unable to determine if a contractor is eligible for additional contract time or other relief measures authorized under the contract.

The Forest Service desires to combine all information collections associated with operations and administration of contracts for the sale of timber and other forest products into one OMB approval. This new collection includes and combines four related collections currently approved by OMB as follows: 0596-0017 Timber Purchaser's Costs and Sales Data; 0596-0086 Operation Plans; 0596-0167 Urgent Removal of Timber; and 0596-0212 Extension of Timber Sales.

Type of Respondents: Timber sale and forest products contractors.

Estimated Annual Number of Contracts: 3,400.

Estimated Annual Number of Respondents: 1,370.

Estimated Annual Responses: 128,100.

Estimated Annual Number of Responses per Respondent: 93.5.

Estimated Total Annual Burden on Respondents: 40,700 hours.

Estimate of Average Burden per Response: 0.32 hours.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: May 27, 2010.
Gloria Manning,
Associate Deputy Chief, National Forest System.

[FR Doc. 2010-13452 Filed 6-3-10; 8:45 am]

BILLING CODE 3410-11-P